DEPARTMENT OF TRANSPORTATION

Surface Transportation Board

[STB Finance Docket No. 35284]

S&S Shortline Leasing, LLC—Operation Exemption—City of Ely, NV and White Pine Historical Railroad Foundation

S&S Shortline Leasing, LLC (S&S), a noncarrier, has filed a verified notice of exemption under 49 CFR 1150.31 to operate approximately 127.9 miles of rail line owned by the City of Ely (City) and the White Pine Historical Railroad Foundation, (Foundation), between milepost 0.0 at or near Cobre, and milepost 127.9 at or near McGill Junction, in White Pine and Elko Counties, NV.¹ S&S states that the line connects at two points with Union Pacific Railroad Company (UP) (milepost 0.0 at Cobre (former Southern Pacific) and milepost 18.79 at Shafter (former Western Pacific).²

¹ This segment of railroad is the remaining part of a main line consisting of approximately 156.7 miles, also owned by the City and the Foundation. Great Basin and Northern Railroad was authorized to operate over approximately 28.8 miles of the main line in Great Basin and Northern Railroad—Change in Operators Exemption—The City of Ely and the White Pine Historical Railroad Foundation, STB Finance Docket No. 34506 (STB served June 7, 2004). S&S seeks to operate over the remainder.

² S&S states that interchange with UP will initially take place at Shafter because the trackage used for interchange at that location is in better condition than the trackage at Cobre.

The transaction is expected to be consummated on or after August 30, 2009.

S&S certifies that its projected annual revenues as a result of the transaction will not result in S&S becoming a Class II or Class I rail carrier and further certifies that its projected annual revenue will not exceed $5 million.

Pursuant to the Consolidated Appropriations Act, 2008, Public Law No. 110-161, § 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than August 21, 2009 (at least 7 days before the exemption becomes effective).

An original and 10 copies of all pleadings, referring to STB Finance Docket No. 35284, must be filed with the Surface Transportation Board, 395 E Street, SW., Washington, DC 20423-0001. In addition, a copy of each pleading must be served on Thomas F. McFarland, 208 South LaSalle St., Suite 1890, Chicago, IL 60604.

Board decisions and notices are available on our Web site at “http://www.stb.dot.gov.”

Decided: August 10, 2009.
By the Board, Rachel D. Campbell, Director, Office of Proceedings.
Jeffrey Herzig,
Clearance Clerk.

[FR Doc. E9-19433 Filed 8-13-09; 8:45 am]

BILLING CODE 4915-01-P